DEPARTMENT OF THE INTERIOR

Fish and Wildlife Service

[Docket No. FWS-R6-ES-2017-0057; FXES11130600000-178-FF06E00000]

Endangered and Threatened Wildlife and Plants; Draft Supplement to the Grizzly Bear Recovery Plan: Habitat-Based Recovery Criteria for the Northern Continental Divide Ecosystem

AGENCY: Fish and Wildlife Service, Interior.

ACTION: Notice of document availability; request for comments; notice of public workshop.

SUMMARY: We, the U.S. Fish and Wildlife Service (Service), announce the availability of a draft Supplement to the Grizzly Bear Recovery Plan: Habitat-Based Recovery Criteria for the Northern Continental Divide Ecosystem (NCDE). The draft supplement, which will be appended to the Grizzly Bear Recovery Plan upon finalization, proposes to establish habitat-based recovery criteria for the NCDE grizzly bear population. In addition, the Service hereby gives notice that a public workshop will be held to review the habitat-based recovery criteria for the grizzly bear in the NCDE. The workshop will allow scientists and the public to submit oral and written comments. The Service solicits review and comment from the public on this draft supplement.

DATES: Comment submission: Comments on the draft Supplement to the Grizzly Bear Recovery Plan must be received on or before January 26, 2018.

Public meeting: The public workshop will be held from 1 p.m. to 4 p.m. and 6 p.m. to 8 p.m. on January 3, 2018, at the Double Tree Hotel, 100 Madison Street, in Missoula, Montana.

ADDRESSES: Document availability: An electronic copy of the draft Supplement to the Grizzly Bear Recovery Plan is available at http://www.regulations.gov in Docket No. FWS-R6-ES-2017-0057, and also at http://www.fws.gov/mountain-prairie/es/grizzlyBear.php. Hard copies of the draft habitat-based recovery criteria are available by request from the Grizzly Bear Recovery Office, U.S. Fish and Wildlife Service, University Hall, Room 309, University of Montana, Missoula, MT 59812; telephone 406-243-4903.

Comment submission: Submit comments on the draft Supplement to the Grizzly Bear Recovery Plan via any one of the following methods:

(1) Federal eRulemaking Portal: www.regulations.gov. In the Search box, enter the docket number for this notice, which is FWS-R6-ES-2017-0057. Then click on the Search button. You may submit a comment by clicking on “Comment Now!”

(2) U.S. mail or hand delivery: Public Comments Processing, Attn: Docket No. FWS-R6-ES-2017-0057; U.S. Fish and Wildlife Service, MS: BPHC; 5257 Leesburg Pike; Falls Church, VA 22041-3803.

Public meeting: The public workshop will be held on at the Double Tree Hotel, 100 Madison Street, Missoula, Montana 59812.

FOR FURTHER INFORMATION CONTACT: Hilary Cooley, Grizzly Bear Recovery Office (see ADDRESSES), 406-243-4903.

SUPPLEMENTARY INFORMATION: We, the U.S. Fish and Wildlife Service (Service), announce the availability of a draft Supplement to the Grizzly Bear Recovery Plan: Habitat-Based Recovery Criteria for the Northern Continental Divide Ecosystem (NCDE). The draft supplement, which will be appended to the Grizzly Bear Recovery Plan upon finalization, proposes to establish habitat-based recovery criteria for the NCDE grizzly bear population. In addition, the Service hereby gives notice that a public workshop will be held to review the habitat-based recovery criteria for the grizzly bear in the NCDE. The workshop will allow scientists and the public to submit oral and written comments. The Service solicits review and comment from the public on this draft supplement. In the lower 48 States, grizzly bears (Ursus arctos horribilis) are federally listed as threatened under the Endangered Species Act of 1973, as amended (16 U.S.C. 1531 et seq.; ESA), outside of the Greater Yellowstone Ecosystem.

Background

Restoring an endangered or threatened animal or plant to the point where it is again a secure, self-sustaining member of its ecosystem is a primary goal of the Service's endangered species program. To help guide the recovery effort, the Service prepares recovery plans for the federally listed species native to the United States where a plan will promote the conservation of the species. Recovery plans describe site-specific actions necessary for the conservation of the species; establish objective, measurable criteria which, when met, may result in a determination that the species no longer needs the protection of the ESA; and provide estimates of the time and cost for implementing the needed recovery measures (16 U.S.C. 1533(f)(1)(B)).

We approved the first Grizzly Bear Recovery Plan for grizzly bears in the lower 48 States on January 29, 1982 (U.S. Fish and Wildlife Service 1982). In 1993, we approved a revision to the Grizzly Bear Recovery Plan (U.S. Fish and Wildlife Service 1993), which included additional tasks and new information that increased the focus and effectiveness of recovery efforts. The 1993 Recovery Plan identifies distinct Recovery Zones and unique recovery criteria for six different grizzly bear populations, including the NCDE, with the intent that these individual populations would be delisted as they each achieve recovery (U.S. Fish and Wildlife Service 1993, pp. ii, 33-34). Supplements to the Recovery Plan were approved in 1997, 1998, 2007, and 2017 (U.S. Fish and Wildlife Service 1997, 1998, 2007a, 2007b, 2017).

Under the ESA, recovery plans must include objective, measurable recovery criteria, including habitat-based recovery standards (16 U.S.C. 1533(f)(1)(B)(ii)). A Grizzly Bear Recovery Plan Task Force also recommended further consideration of this issue, stating that we should work to “establish a threshold of minimal habitat values to be maintained within each Cumulative Effects Analysis Unit in order to ensure that sufficient habitat is available to support a viable population” (U.S. Fish and Wildlife Service 1993, p. 76). The draft habitat-based recovery criteria were developed in part by taking into account the oral and written comments received at the habitat-based recovery criteria workshop, which was held on July 7, 2016, in Missoula, Montana (81 FR 29295, May 11, 2016), and during the public comment period that followed the workshop. The Service has decided to hold a second habitat-based recovery criteria workshop.

The ESA requires the Service to provide public notice and opportunity for public review and comment on recovery plans prior to final approval (16 U.S.C. 1533(f)(4)). The Service will consider all information received during a public comment period when preparing each new or revised recovery plan for approval. The Service and other Federal agencies also will take these comments into consideration in the course of implementing approved recovery plans. It is our policy to request peer review of recovery plans. Comments received at the upcoming workshop announced in this Federal Register notice and during the public comment period will be used to inform the final habitat-based recovery criteria, which will be appended to the 1993 Grizzly Bear Recovery Plan for the NCDE and incorporated into the NCDE Grizzly Bear Conservation Strategy. The Recovery Plan sets out guidance for the Service, States, and other partners on methods to minimize threats to grizzly bears and criteria that may be used to measure if recovery has been achieved while the Conservation Strategy guides post-delisting management.

Workshop

As described above, the Service will hold a public workshop seeking input and ideas on objective, measurable habitat-based recovery criteria available at https://www.fws.gov/mountain-prairie/es/grizzlyBear.php. We seek ideas and information about characteristics of habitat necessary to support a recovered population of grizzly bears and habitat parameters that can be measured and directly related to grizzly bear population health. The Service also wants to obtain information and comments on methods for monitoring the habitat-based recovery criteria. The workshop will be held in Missoula, Montana, on the date specified in DATES at the location specified in ADDRESSES. Participants are invited to present information in oral and written form. All comments presented orally should also be submitted in writing to facilitate review of these comments. Those wishing to present information or comments orally at the workshop are asked to contact the Grizzly Bear Recovery Office (see ADDRESSES) so that oral presentations can be scheduled in advance.

All information and comments received at the workshop or during the public comment period will be considered in finalizing the habitat-based recovery criteria for the NCDE.

Request for Public Comments

The Service solicits public comments on a draft Supplement to the Grizzly Bear Recovery Plan. Specifically, this supplement proposes to append habitat-based recovery criteria for the Northern Continental Divide Ecosystem to the Grizzly Bear Recovery Plan. All comments received by the date specified in DATES will be considered prior to approval of the final Supplement to the Grizzly Bear Recovery Plan. Written comments and materials regarding the plan should be submitted as specified in ADDRESSES.

Availability of Public Comments

If you submit information via http://www.regulations.gov, your entire submission—including any personal identifying information—will be posted on the website. If your submission is made via a hardcopy that includes personal identifying information, you may request at the top of your document that we withhold this information from public review. However, we cannot guarantee that we will be able to do so. We will post all hardcopy submissions on http://www.regulations.gov. Comments and materials we receive will be available for public inspection on http://www.regulations.gov, or by appointment, during normal business hours, at the Grizzly Bear Recovery Office address specified in ADDRESSES.

References Cited

A list of the references cited in this notice may be found at http://www.regulations.gov in Docket No. FWS-R6-ES-2017-0057.

Authority

The authority for this action is section 4(f) of the Endangered Species Act, 16 U.S.C. 1533(f).

Dated: October 5, 2017.
Noreen E. Walsh,
Regional Director, Mountain-Prairie Region, Denver, Colorado.

[FR Doc. 2017-26257 Filed 12-11-17; 8:45 am]

BILLING CODE 4333-15-P